DEPARTMENT OF EDUCATION

Policy Statement on Developing Student Achievement Levels for the National Assessment of Educational Progress

AGENCY: National Assessment Governing Board, U.S. Department of Education.

ACTION: Extension of Public Comment Period on Draft Policy Statement on Developing Student Achievement Levels for the National Assessment of Educational Progress.

SUMMARY: The National Assessment Governing Board (Governing Board) is soliciting public comment for guidance in finalizing a revised policy on Developing Student Achievement Levels for the National Assessment of Educational Progress (NAEP), which published September 10, 2018, in the Federal Register. Based on public comments received on the document, the comment period is being extended.

DATES: The comment period for the draft policy statement published on September 10, 2018, at 83 FR 45618, is extended. Comments must be received no later than October 15, 2018.

ADDRESSES: Comments may be provided via email at NAEPALSpolicy@ed.gov and may also be mailed to the following address: NAEP Achievement Level Setting Policy, National Assessment Governing Board, 800 North Capitol Street NW, Suite 825, Washington, DC 20002.

FOR FURTHER INFORMATION CONTACT: Sharyn Rosenberg, National Assessment Governing Board, 800 North Capitol Street NW, Suite 825, Washington, DC 20002-4233, Telephone: (202) 357-6940.

SUPPLEMENTARY INFORMATION: All responses will be taken into consideration before finalizing the updated policy on Developing Achievement levels for NAEP for Board adoption. Once adopted, the policy will be used in setting and reporting achievement levels for NAEP assessments. Additional information on this document can be found on the Governing Board website at https://www.nagb.gov/news-andevents/calendar/public-comment-onals-policy.html.

Electronic Access to This Document: You may view this document, as well as all other documents of this Department published in the Federal Register, in text or Adobe Portable Document Format (PDF) on the internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free internet access to the official edition of the Federal Register and the Code of Federal Regulations is available on GPO Access at: www.gpoaccess.gov/nara/index.html.

Dated: September 27, 2018.
Lisa Stooksberry,
Deputy Executive Director, National Assessment Governing Board (NAGB), U.S. Department of Education.

[FR Doc. 2018-21451 Filed 10-1-18; 8:45 am]

BILLING CODE 4000-01-P